FEDERAL COMMUNICATIONS COMMISSION

47 CFR Part 73

[DA 05-3011; MM Docket No. 01-151; RM-10167, RM-10567]

Radio Broadcasting Services; Eminence, Lebanon, Linn, Potosi and Rolla, MO

AGENCY: Federal Communications Commission.

ACTION: Final rule.

SUMMARY: This document grants a Counterproposal filed by Four Him Enterprises, LLC in response to the Notice of Proposed Rule Making in this proceeding. See 66 FR 38410, July 24, 2001. Specifically, the license of Station KHZR, Channel 249C3, Potosi, Missouri, is modified to specify operation on Channel 249C2.To accommodate this upgrade, this document makes four related channel substitutions. Channel 248A is substituted for vacant Channel 276A at Linn, Missouri. The license of Station KDAA, Channel 248A, Rolla, Missouri, is modified to specify operation on Channel 276A. The license of Station KJEL, Channel 279C, Lebanon, Missouri, is modified to specify operation on Channel 279C0. This document allots Channel 281A to Eminence, Missouri, to provide a first local service. The reference coordinates for the Channel 249C2 allotment at Potosi, Missouri, are 37-58-30 NL and 90-48-30 WL. The reference coordinates for the Channel 276A allotment at Rolla, Missouri, are 37-57-50 NL and 91-45-54 WL. The reference coordinates for the Channel 281A allotment at Eminence, Missouri, are 37-14-30 NL and 91-26-00 WL. The reference coordinates for the Channel 248A allotment at Linn, Missouri, are 38-29-06 NL and 91-51-06 WL. The reference coordinates for the Channel 279C0 allotment at Lebanon, Missouri, are 37-41-06 NL and 92-41-40 WL. This document also dismisses BPH-20030401ABZ and a separate Petition for Reconsideration filed by Four Him Enterprises, LLC. With this action, the proceeding is terminated.

DATES: Effective January 9, 2006.

FOR FURTHER INFORMATION CONTACT: Robert Hayne, Media Bureau, (202) 418-2177.

SUPPLEMENTARY INFORMATION: This is a synopsis of the Report and Order in MM Docket No. 01-151 adopted November 23, 2005, and released November 25, 2005. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio Broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the table of FM Allotments under Missouri, is amended by adding Eminence, Channel 281A, removing Channel 279C and adding Channel 279C0 at Lebanon, removing Channel 276A and adding Channel 248A at Linn, removing Channel 249C3 and adding Channel 249C2 at Potosi and by removing Channel 248A and adding Channel 276A at Rolla.

Federal Communications Commission.
John A. Karousos,
Assistant Chief, Audio Division, Media Bureau.

[FR Doc. 05-24033 Filed 12-13-05; 8:45 am]

BILLING CODE 6712-01-P